Title 3—

The President

Proclamation 9514 of October 3, 2016

National Youth Substance Use and Substance Use Disorder Prevention Month, 2016

By the President of the United States of America

A Proclamation

Far too many young people are unable to grow and thrive because of substance use. And far too many precious lives are being taken from us as a result of drug overdoses, leaving families devastated and heartbroken. Substance use can also lead to lower academic achievement and a variety of physical and emotional consequences, and it is crucial that America's youth learn and understand the risks connected with it. Youth substance use can be prevented—and with dedicated, collective effort across our communities, we can ensure more Americans live long, productive lives. During National Youth Substance Use and Substance Use Disorder Prevention Month, we come together in common purpose to unite behind this important mission.

My Administration's National Drug Control Strategy has enabled us to amplify prevention efforts by working with States to implement evidence-based strategies that support communities and strengthen drug-free programs. Every dollar invested in school-based substance use prevention programs can save nearly $18 in costs related to the disease of substance use disorder later on. We must facilitate open discussions with families and children—as well as health care providers—about the dangers posed by the misuse of prescription drugs, because for many individuals, their opioid use disorder starts by misusing prescription medications found in their home medicine cabinet. This is especially important because our Nation is currently facing an opioid epidemic, including a near quadrupling of opioid overdose deaths since 1999. That is why I continue to call on the Congress to provide $1.1 billion to expand access to treatment services for prescription opioid misuse and heroin use.

With evidence-based approaches and community-led prevention activities, we can improve health and safety and give our young people the tools they need to make smart decisions. Parents, guardians, teachers, coaches, community members, and the health care community can all play a part in promoting substance use prevention efforts. This month, let us continue taking every step possible to increase these efforts for our young people—and for all Americans—so that they may pursue a bright future filled with possibility and opportunity.

NOW, THEREFORE, I, BARACK OBAMA, President of the United States of America, by virtue of the authority vested in me by the Constitution and the laws of the United States, do hereby proclaim October 2016 as National Youth Substance Use and Substance Use Disorder Prevention Month. I call upon all Americans to engage in appropriate programs and activities to promote comprehensive prevention efforts to reduce youth substance use and substance use disorders within their communities.

IN WITNESS WHEREOF, I have hereunto set my hand this third day of October, in the year of our Lord two thousand sixteen, and of the Independence of the United States of America the two hundred and forty-first.

[FR Doc. 2016-24581

Filed 10-6-16; 11:15 am]

Billing code 3295-F7-P